DEPARTMENT OF COMMERCE

Evaluation of State Coastal Management Programs and National Estuarine Research Reserves

AGENCY: Office of Ocean and Coastal Resource Management National Ocean Service, National Oceanic and Atmospheric Administration (NOAA), DOC.

ACTION: Notice of availability of final evaluation findings.

SUMMARY: Notice is hereby given of the availability of the final evaluation findings for the Washington, South Carolina, California, Puerto Rico, and the Northern Mariana Islands Coastal Management Programs, and the Great Bay (New Hampshire) and Rookery Bay (Florida) National Estuarine Research Reserves (NERRs). Sections 312 of the Coastal Zone Management Act of 1972 (CZMA), as amended, require a continuing review of the performance of coastal states with respect to approval of coastal management programs, and the operation and management of NERRs.

The states of Washington, South Carolina, California, and the territories of Puerto Rico and the Northern Mariana Islands were found to be implementing and enforcing their federally approved coastal management programs, addressing the national coastal management objectives identified in CZMA Section 303(2)(A)-(K), and adhering to the programmatic terms of their financial assistance awards. Great Bay and Rookery Bay NERRs were found to be adhering to programmatic requirements of the NERR System.

Copies of these final evaluation findings may be obtained upon written request from: Ralph Cantral, Senior Policy Analyst, Office of Ocean and Coastal Resource Management, NOS/NOAA, 1305 East-West Highway, 10th Floor, Silver Spring, Maryland 20910, or Ralph.Cantral@noaa.gov, (301) 713-3155 Extension 118.

(Federal Domestic Assistance Catalog 11.419 Coastal Zone Management Program Administration)
Dated: August 21, 2002.
Jamison S. Hawkins,
Deputy Assistant Administrator for Ocean Services and Coastal Zone Management.

[FR Doc. 02-22674 Filed 9-5-02; 8:45 am]

BILLING CODE 3510-08-M